DEPARTMENT OF ENERGY

Federal Energy Regulatory Commission

[Docket Nos. RD16-10-000, RD17-5-000, and IC17-6-000 (FERC-725E)]

Errata Notice

On August 15, 2017, the Commission issued a Notice of revised information collection and request for comments on FERC-725E (Mandatory Reliability Standards for the Western Electric Coordinating Council), in Docket Nos. RD16-10-000, RD17-5-000, and IC17-6-000. This Errata Notice corrects multiple figures on page 13, in the table labeled FERC-725E, Mandatory Reliability Standards for the Western Electric Coordinating Council, Changes in Docket No. RD17-5-000.

All of the changes described here occur in two separate rows under the column labeled Total Annual Burden Hours & Total Annual Cost ($) (3)*(4)=(5).: The entry in the row labeled Net Burden Change in Year 1 (Due to Docket RD17-5) should be changed from +252 hrs. (increase) to +252 hrs.; $2,993.40 (increase). The entry in the row labeled Net Burden Change in Year 2 and ongoing (Due to Docket RD17-5) should be changed from the −621 hrs. (decrease) to +873 hrs.; $53,884.47 (increase).

Dated: August 22, 2017.
Kimberly D. Bose,
Secretary.

[FR Doc. 2017-18237 Filed 8-28-17; 8:45 am]

BILLING CODE 6717-01-P